FEDERAL MARITIME COMMISSION

[FMC-2024-0016]

Agency Information Collection Activities: Submission for OMB Review; Comment Requested; Passenger Vessel Operators; Correction

AGENCY: Federal Maritime Commission.

ACTION: Notice; correction.

SUMMARY: The Federal Maritime Commission (FMC) published in the Federal Register on June 16, 2025, a notice that the FMC had submitted to the Office of Management and Budget (OMB) for clearance, a proposal for a three-year extension of a collection of information under the provisions of the Paperwork Reduction Act of 1995. This document makes a correction to that notice. The notice incorrectly stated that no changes were being made to the collection.

FOR FURTHER INFORMATION CONTACT: Robyn K. Smith, (202) 523-5818, PVO@fmc.gov.

SUPPLEMENTARY INFORMATION:

Correction

In the Federal Register of June 16, 2025, FR Doc. 2025-11027 (90 FR 25269), on page 25269, in the third column, under the SUPPLEMENTARY INFORMATION section, the following corrections are made:

Current Actions: Extension of a currently approved collection with change.

Type of Review: Revision of a currently approved collection.

By the Commission.
David Eng,
Secretary.

[FR Doc. 2025-12077 Filed 6-27-25; 8:45 am]

BILLING CODE 6730-02-P